DEPARTMENT OF COMMERCE

International Trade Administration

[A-570-106]

Wooden Cabinet and Vanities and Components Thereof From the People's Republic of China: Final Results and Partial Rescission of the Antidumping Duty Administrative Review; 2022-2023

AGENCY: Enforcement and Compliance, International Trade Administration, Department of Commerce.

SUMMARY: The U.S. Department of Commerce (Commerce) determines that and The Ancientree Cabinet Co., Ltd. (Ancientree) and Jiangsu Weisen Houseware Co., Ltd. (Weisen) did not make sales of wooden cabinets and vanities and components thereof (cabinets) at prices below normal value during the period of review (POR) April 1, 2022, through March 31, 2023.

DATES: Applicable November 12, 2024.

FOR FURTHER INFORMATION CONTACT: Garry Kasparov or Hermes Pinilla, AD/CVD Operations, Office I, Enforcement and Compliance, International Trade Administration, U.S. Department of Commerce, 1401 Constitution Avenue NW, Washington, DC 20230; telephone: (202) 482-1397 or (202) 482-3477, respectively.

SUPPLEMENTARY INFORMATION:

Background

On May 2, 2024, Commerce published in the Federal Register the Preliminary Results of the antidumping duty administrative review and invited interested parties to comment.¹ On July 22, 2024, Commerce tolled certain deadlines in this administrative proceeding by seven days.² On August 8, 2024, Commerce extended the deadline for issuing the final results in this review to November 5, 2024.³

¹ See Wooden Cabinets and Vanities and Components Thereof from the People's Republic of China: Preliminary Results, Preliminary Determination of No Shipments, and Partial Rescission of the Antidumping Duty Administrative Review; 2022-2023, 89 FR 35785 (May 2, 2024) (Preliminary Results), and accompanying Preliminary Decision Memorandum.

² See Memorandum, “Tolling of Deadlines for Antidumping and Countervailing Duty Proceedings,” dated July 22, 2024.

³ See Memorandum, “Extension of Deadline for Final Results of Antidumping Duty Administrative Review,” dated August 8, 2024.

For a complete description of the events that occurred since Commerce published the Preliminary Results, see the Issues and Decision Memorandum.⁴ Commerce conducted this review in accordance with section 751(a) of the Tariff Act of 1930, as amended (the Act).

⁴ See Memorandum, “Issues and Decision Memorandum for the Final Results of the Antidumping Duty Administrative Review of Wooden Cabinets and Vanities and Components Thereof from the People's Republic of China; 2022-2023,” dated concurrently with, and hereby adopted by, this notice (Issues and Decision Memorandum).

Scope of the Order ⁵

⁵ See Wooden Cabinets and Vanities and Components Thereof from the People's Republic of China: Antidumping Duty Order, 85 FR 22126 (April 21, 2020) (Order).

The products covered by this Order are wooden cabinets and vanities For full description of the scope of the Order, see the Issues and Decision Memorandum.

Partial Rescission of Review

Pursuant to 19 CFR 351.213(d)(3), it is Commerce's practice to rescind an administrative review of an antidumping duty order when there are no reviewable entries of subject merchandise during the POR for which liquidation is suspended.⁶ Normally, upon completion of an administrative review, the suspended entries are liquidated at the antidumping duty assessment rate calculated for the review period.⁷ Therefore, for an administrative review to be conducted, there must be a reviewable, suspended entry that Commerce can instruct CBP to liquidate at the antidumping duty assessment rate calculated for the review period.⁸ Commerce found during this administrative review that, for certain companies listed in the in the Initiation Notice, there were no reviewable entries during the POR.⁹ As a result, in the absence of suspended entries of subject merchandise during the POR, we are hereby rescinding this administrative review for certain companies listed in appendix IV of this notice, in accordance with 19 CFR 351.213(d)(3).

⁶ See, e.g., Dioctyl Terephthalate from the Republic of Korea: Rescission of Antidumping Administrative Review; 2021-2022, 88 FR 24758 (April 24, 2023); see also Certain Carbon and Alloy Steel Cut-to Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

⁷ See 19 CFR 351.212(b)(1).

⁸ See 19 CFR 351.213(d)(3).

⁹ See Commerce's Memorandum, “U.S. Customs and Border Protection (CBP) Data release,” dated June 20, 2023.

Analysis of Comments Received

All issues raised in the parties' briefs are addressed in the Issues and Decision Memorandum. A list of the issues addressed is included as appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes From the Preliminary Results

Based on our review and analysis of the comments received, we made changes to the Preliminary Results. For a more detailed discussion of the issues raised by parties, see the Issues and Decision Memorandum.¹⁰

¹⁰ See Issues and Decision Memorandum.

Rates for Non-Examined Separate Rate Respondents

Commerce determines that 18 companies, not individually examined, are eligible for separate rates in this administrative review.¹¹ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. For the final results of this review, Commerce determined the estimated dumping margins for Ancientree and Weisen to be zero. For the reasons explained in the Issues and Decision Memorandum, we are assigning this rate to the non-examined respondents which qualify for a separate rate in this review.¹²

¹¹ See Appendix II.

¹² See Issues and Decision Memorandum at Comment 4.

China-Wide Entity

As stated in the Preliminary Results, because no party requested a review of the China-wide entity is not under review and the China-wide entity's rate, i.e., 251.64 percent, is not subject to change.¹³ Commerce considers all other companies, listed in appendix III of this notice, for which a review was requested, and which did not demonstrate separate rate eligibility, to be part of the China-wide entity, including Jiangsu Sunwell Cabinetry Co., Ltd.

¹³ See Preliminary Results, 89 FR 35785.

Final Results of Administrative Review

Commerce determines that the following estimated weighted-average dumping margin exists for the administrative review covering the period April 1, 2022, through March 31, 2023:

Exporter | Weighted-average dumping margin (percent)
Jiangsu Weisen Houseware Co., Ltd | 0.00
The Ancientree Cabinet Co., Ltd | 0.00
Non-Selected Companies Under Review Receiving a Separate Rate ¹⁴ | 0.00

Disclosure

¹⁴ See Appendix II.

Normally, Commerce discloses to interested parties the calculations of the final results of an administrative review within five days of a public announcement or, if there is no public announcement, within five days of the date of publication of the notice of final results in the Federal Register, in accordance with 19 CFR 351.224(b). However, because we have made no changes to Ancientree's and Weisen's margin calculations from the Preliminary Results, there are no calculations to disclose.

Assessment

Pursuant to section 751(a)(2)(A) of the Act, and 19 CFR 351.212(b)(1), Commerce has determined, and U.S. Customs and Border Protections (CBP) shall assess, antidumping duties on all appropriate entries of subject merchandise in accordance with the final results of this review. Pursuant to 19 CFR 351.212(b)(1), for Ancientree, and Weisen, we calculated importer-specific ad valorem duty assessment rates based on the ratio of the total amount of dumping calculated for each importer's examined sales and the total entered value of the sales. Where an importer-specific assessment rate is zero or de minimis (i.e., less than 0.5 percent), the entries by that importer will be liquidated without regard to antidumping duties.

For all non-selected separate rate applicants subject to this review, we will instruct CBP to liquidate all entries of subject merchandise that entered the United States during the POR at the average of the rates calculated for Ancientree and Weisen as listed above.¹⁵ For entries of subject merchandise during the POR produced by Ancientree and Weisen for which they did not know their merchandise was destined for the United States, we intend to instruct CBP to liquidate such entries at the China-wide rate if there is no rate for the intermediate company or companies involved in the transaction.

¹⁵ See Issues and Decision Memorandum at Comment 4.

For the companies for which the review is rescinded, any suspended entries that entered under that exporter's case number (i.e., at that exporter's rate) will be liquidated at the rate as entered. For all other companies, we will instruct CBP to apply the antidumping duty assessment rate of the China-wide entity, 251.64 percent, to all entries of subject merchandise exported by these companies.¹⁶

¹⁶ See Initiation of Antidumping and Countervailing Duty Administrative Reviews, 88 FR 38021 (June 12, 2023) (“All firms listed below that wish to qualify for separate rate status in the administrative reviews involving NME countries must complete, as appropriate, either a Separate Rate Application or Certification, as described below.”).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies subject to this review will be the rate established in these final results of the review; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 251.64 percent); and (4) for all non-Chinese exporters of subject merchandise which have not received their own separate rate, the cash deposit rate will be the rate applicable to the Chinese exporter(s) that supplied that non- Chinese exporter.¹⁷ These cash deposit requirements, when imposed, shall remain in effect until further notice.

¹⁷ See Order, 85 FR at 22126.

Certification

Following the publication of this notice, the importer, or the importer's agent, must continue to submit any required certifications to CBP as part of the entry process by uploading them into the document imaging system in CBP's Automated Commercial Environment at the time of entry summary filing. Consistent with CBP's procedures, importers shall also identify entries required to have certifications by using importers' additional declaration (record 54) AD/CVD Certification Designation (type code 06) when filing entry summary.¹⁸

¹⁸ See Cargo System Messaging Service #59384253, dated 02/12/2024; see also, Announcing an Importer's Additional Declaration in the Automated Commercial Environment Specific to Antidumping/Countervailing Duty Certifications, 89 FR 7372 (February 2, 2024).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or an increase in the amount of antidumping duties by the amount of countervailing duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and terms of an APO is a violation subject to sanction.

Notification to Interested Parties

This determination is issued and published in accordance with sections 751(a)(1) and 777(i)(1) of the Act, and 19 CFR 351.221(b)(5) and 19 CFR 351.213(h)(2).

Dated: November 5, 2024.
Abdelali Elouaradia,
Deputy Assistant Secretary for Enforcement and Compliance.

Appendix I

List of Topics Discussed in the Issues and Decision Memorandum

I. Summary

II. Background

III. Scope of the Order

IV. Changes from the Preliminary Results

V. Discussion of the Issues

Comment 1: Whether Commerce Should Rely on Adverse Facts Available (AFA) to Determine a Margin for Ancientree

Comment 2: Surrogate Country Selection

Comment 3: Whether Commerce Should Find That Jiangsu Sunwell Cabinetry Co., Ltd. (Sunwell) Has Rebutted the Presumption of Government Control.

Comment 4: Whether Commerce Should Revise the Calculation of the Separate Rate in the Final Results.

Comment 5: Whether Commerce Should Rescind the Review for All Companies That Have No Unliquidated Type 03 Entries as Reflected in the U.S. Customs and Border Protection (CBP) Data.

Comment 6: Whether Commerce Should Determine Jiangsu Xiangsheng Bedtime Furniture Co., Ltd. (Bedtime) Has No Shipments.

VI. Recommendation

Appendix II

Non-Selected Companies Under Review Receiving a Separate Rate

1. Fujian Dushi Wooden Industry Co., Ltd.

2. Fujian Leifeng Cabinetry Co., Ltd.

3. Fuzhou CBM Imp & Exp Co., Ltd.

4. Goldenhome Living Co., Ltd.

5. Honsoar New Building Material Co., Ltd.

6. Jiangsu Beichen Wood Co., Ltd.

7. KM Cabinetry Co., Ltd.

8. Nantong Aershin Cabinets Co., Ltd.

9. Qingdao Shousheng Industry Co., Ltd.

10. Senke Manufacturing Company

11. Shanghai Zifeng International Trading Co., Ltd.

12. Shouguang Fushi Wood Co., Ltd.

13. Taishan Hongxiang Trading Co., Ltd.

14. Taishan Oversea Trading Co., Ltd.

15. Taizhou Overseas Int'l Ltd.

16. Xiamen Adler Cabinetry Co., Ltd.

17. Xiamen Golden Huanan Imp & Exp Co., Ltd.

18. Yixing Pengjia Technology Co., Ltd. (formally known as Yixing Pengjia Cabinetry Co., Ltd.)

Appendix III

Companies Determined To Be Part of the China-Wide Entity

1. Deqing Meisheng Import and Export Co., Ltd.

2. Fujian Senyi Kitchen Cabinet Co., Ltd.

3. Fuzhou Hauster Kitchen Cabinet Manufacturing Co., Ltd.

4. Fuzhou Pyrashine Trading Co., Ltd.

5. Jiang Su Rongxin Import and Export Co., Ltd.

6. Jiangsu Sunwell Cabinetry Co., Ltd.

7. Jiangsu Xiangsheng Bedtime Furniture Co., Ltd.

8. Linshu Meibang Furniture Co., Ltd.

9. Linyi Bomei Furniture Co., Ltd.

10. Qufu Xinyu Furniture Co., Ltd.

11. Shanghai Beautystar Cabinetry Co., Ltd.

12. Shanghai Zifeng Industries Development Co., Ltd.

13. Shenzhen Pengchengzhirong Trade Co., Ltd.

14. Xiamen Got Cheer Co., Ltd.

15. Yichun Dongmeng Wood Co., Ltd.

16. Yindu Kitchen Equipment Co., Ltd.

17. ZBOM Cabinets Co., Ltd.

18. Zaozhuang New Sharp Import & Export Trading Co., Ltd.

19. Zhongshan KM Cabinetry Co., Ltd.

Appendix IV

Companies for Which the Review Is Rescinded

1. Anhui Xinyuanda Cupboard Co., Ltd.

2. Changyi Zhengzheng Woodwork Co.,

3. Dalian Hualing Wood Co., Ltd.

4. Dalian Meisen Woodworking Co., Ltd.

5. Dongguan Ri Sheng Home Furnishing Articles Co., Ltd.

6. Guangzhou Nuolande Import and Export Co., Ltd.

7. Hangzhou Hoca Kitchen & Bath Products Co., Ltd.

8. Jiang Su Rongxin Wood Industry Co., Ltd. (Formerly known as Jiang Su Rongxin Cabinets Ltd.)

9. Kunshan Baiyulan Furniture Co., Ltd.

10. Linyi Kaipu Furniture Co., Ltd.

11. Morewood Cabinetry Co., Ltd.

12. Pizhou Ouyme Import & Export Trade Co., Ltd.

13. Quanzhou Ample Furnishings Co., Ltd.

14. Shandong Jinhua Wood Co., Ltd.

15. Shandong Longsen Woods Co., Ltd.

16. Sheen Lead International Trading (Shanghai) Co., Ltd.

17. Suzhou Siemo Wood Import & Export Co., Ltd.

18. Tech Forest Cabinetry Co., Ltd.

19. Weifang Fuxing Wood Co., Ltd.

20. Weifang Yuanlin Woodware Co., Ltd.

21. Weihai Jarlin Cabinetry Manufacture Co., Ltd.

22. Xuzhou Yihe Wood Co., Ltd.

23. Zhangzhou OCA Furniture Co., Ltd.

24. Zhongshan NU Furniture Co., Ltd.

25. Zhoushan For-Strong Wood Co.

[FR Doc. 2024-26174 Filed 11-8-24; 8:45 am]

BILLING CODE 3510-DS-P